DEPARTMENT OF LABOR

Employment and Training Administration

[TA-W-65,164]

Bradington-Young, LLC, Cherryville, NC; Notice of Termination of Investigation

Pursuant to Section 221 of the Trade Act of 1974, as amended, an investigation was initiated on February 9, 2009 in response to a petition filed by a company official on behalf of workers of Bradington-Young, LLC, Cherryville, North Carolina.

The workers at the subject facility are covered by an earlier petition (TA-W-65,147) filed on February 5, 2009 that is the subject of an ongoing investigation for which a determination has not been issued. Further investigation in this case would duplicate efforts and serve no purpose; therefore the investigation under this petition has been terminated.

Signed at Washington, DC, this 18th day of February 2009.
Richard Church,
Certifying Officer, Division of Trade Adjustment Assistance.

[FR Doc. E9-4407 Filed 3-2-09; 8:45 am]

BILLING CODE 4510-FN-P